DEPARTMENT OF LABOR

Employment and Training Administration

[TA-W-58,298]

Messier Services, Inc., a Subsidiary of the Safran Group, Sterling, VA; Notice of Affirmative Determination Regarding Application for Reconsideration

By application of November 29, 2005, a company official requested administrative reconsideration of the Department of Labor's Notice of Negative Determination Regarding Eligibility to Apply for Worker Adjustment Assistance, applicable to workers of the subject firm. The negative determination was signed on November 17, 2005. The Department's Notice of Determination will soon be published in the Federal Register.

The negative determination was based on the findings that the workers do not produce an article but are engaged in the repair and overhaul of landing gear and hydraulics components. Although the firm or appropriate subdivision produced an article, the petitioning worker group did not support this production. The predominant cause of worker separations is the shift of landing gear and hydraulics repair services from the Sterling, Virginia location to an affiliated facility in Mexico.

The request for reconsideration states that the workers at the subject firm sell spare parts, manufacture bushings (a landing gear component) and rotables (remanufactured completed landing gear units sold to the airline industry).

The Department has carefully reviewed the company's request for reconsideration and has determined that the Department will conduct further investigation based on the new information provided by the company official.

Conclusion

After careful review of the application, I conclude that the claim is of sufficient weight to justify reconsideration of the Department of Labor's prior decision. The application is, therefore, granted.

Signed at Washington, DC, this 30th day of November 2005.
Linda G. Poole,
Certifying Officer, Division of Trade Adjustment Assistance.

[FR Doc. E5-8291 Filed 1-4-06; 8:45 am]

BILLING CODE 4510-30-P